DEPARTMENT OF THE INTERIOR

Bureau of Land Management

[OR-65891, LLORB00000-L51010000-ER0000-LVRWH09H0560; HAG-10-0189]

Notice of Availability of the Draft Environmental Impact Statement for the Proposed North Steens Transmission Line Project in Harney County, OR

AGENCY: Bureau of Land Management, Interior.

ACTION: Notice of Availability.

SUMMARY: In accordance with the National Environmental Policy Act of 1969, as amended, the Bureau of Land Management (BLM) has prepared a Draft Environmental Impact Statement (EIS) for the North Steens Transmission Line Project and by this notice is announcing the opening of the comment period.

DATES: To ensure comments will be considered, the BLM must receive written comments on the Draft EIS within 45 days following the date the Environmental Protection Agency publishes its Notice of Availability in the Federal Register. The BLM will announce future meetings or hearings and any other public involvement activities at least 15 days in advance through public notices, media releases, and/or mailings.

ADDRESSES: You may submit comments related to the North Steens Transmission Line Project by any of the following methods:

• E-mail: OR_Burns_NS_Transmission_Line_EIS@blm.gov.

• Mail: North Steens Transmission Line Project Lead, BLM Burns District Office, 28910 Highway 20 West, Hines, Oregon 97738.

• Fax: (541) 573-4411, Attention North Steens Transmission Line Project Lead.

• Written comments may also be hand-delivered to the BLM Burns District Office at the address shown above.

Copies of the Draft EIS are available at the Burns District Office at the address listed above and electronically at the following Web site: http://www.blm.gov/or/districts/burns/plans/index.php.

FOR FURTHER INFORMATION CONTACT: For further information contact Robert Renchler, North Steens Transmission Line Project Lead, telephone (541) 573-4400; address 28910 Highway 20 West, Hines, Oregon 97738; or e-mail: OR_Burns_NS_Transmission_Line_EIS@blm.gov.

SUPPLEMENTARY INFORMATION: The applicant, Echanis, LLC, has filed applications for rights-of-way with the BLM and the U.S. Fish and Wildlife Service (FWS) for construction, operation, maintenance, and termination of a 29-mile long 230-kilovolt (kV) transmission line that would connect the proposed Echanis Wind Energy Project, located on private land on the north end of Steens Mountain, with Harney Electric Cooperative's existing transmission system near Diamond Junction, Oregon. The proposed line (Proposed Action, West Route-Alternative B) would cross approximately 19 miles of private land, 9 miles of BLM-administered public land, and 1.3 miles of land on the Malheur National Wildlife Refuge that is managed by the FWS, including a span over the Blitzen Valley. The Draft EIS analyzes impacts of six alternatives: the Proposed Action, two deviations of the proposed route, a north route alternative, a 115-kV construction option, and the No Action Alternative. The Draft EIS also identifies and analyzes measures to mitigate adverse impacts for each alternative. The private wind energy facilities and associated features are also analyzed in the Draft EIS. Major issues brought forward during the public scoping process and addressed in the Draft EIS include:

(1) Vegetation;

(2) Wildlife;

(3) Visual and aesthetic values;

(4) Lands with special designations;

(5) Cultural and tribal resources;

(6) Public services and transportation;

(7) Recreation and tourism;

(8) Social and economic effects; and

(9) Public safety.

A Notice of Intent to Prepare an EIS for the North Steens Transmission Line Project was published in the Federal Register on July 27, 2009 (74 FR 37052). Public participation was solicited through the media, mailings, and the BLM Web site. Public meetings were held in Burns, Bend, Frenchglen, and Diamond, Oregon.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6 and 1506.10.

Kenny McDaniel,
Burns District Manager.

[FR Doc. 2010-17239 Filed 7-15-10; 8:45 am]

BILLING CODE 4310-33-P